ENVIRONMENTAL PROTECTION AGENCY

[ER-FRL-6632-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 12, 2002 (67 FR 17992).

Draft EISs

ERP No. D-AFS-L65403-WA Rating LO, Quartzite Watershed Management Project, Watershed Management Activities including Vegetation Management, Riparian/Wetland Management and Road Management, Colville National Forest, Thomason Sherwood-Cottonwood Creek, Three Rivers Ranger District, Stevens County, WA.

Summary: EPA expressed a lack of objections to the proposal.

ERP No. D-COE-D01001-WV Rating 3, Spruce Mine No.1 Surface Mine Project, Extraction (i.e., Maximum Mineral Recovery Based on Economic Considerations and Landowner Commitments) of High Quality Coal Reserves, Blair, Logan County, WV.

Summary: EPA raised issues regarding the nature and extent of adverse impacts to high quality streams and inadequate information provided on downstream biological resources and water quality. Issues regarding the in-depth examination of only one alternative and a recognized need to develop a more detailed mitigation plan were also expressed.

ERP No. D-COE-G32055-TX Rating LO, Corpus Christi Ship Channel Improvements Project to Provide Navigation Safety and Efficiency of the Deep Draft Navigation System, Corpus Christi and Nueces Bay, Nueces and San Patricio Counties, TX.

Summary: EPA had no objections to the proposed project.

ERP No. D-COE-G39036-TX Rating EC2, North Padre Island Storm Damage Reduction and Environmental Restoration Project, Construction of a Channel between the Laquna Madre and the Gulf of Mexico across North Padre Island referred to as Packery Channel Project, Nueces County, IL.

Summary: EPA expressed environmental concerns and requested additional information or clarification regarding project purpose and need, direct and secondary impacts of increased boater recreation and increased economic development, and overall project economic cost-benefit analysis.

ERP No. D-NRS-G36154-OK Rating EC2, Rehabilitation of Aging Flood Control Dams in Oklahoma, Authorization and Funding, OK.

Summary: EPA expressed environmental concerns and requested additional information regarding impacts to cultural resources, water quality, wetlands and fish and wildlife habitat.

ERP No. DA-COE-A36164-OK Rating LO, Wister Lake and Poteau River, Operation and Maintenance Program for the Present Conservation Pool Level of 478.0 feet and to Provide Mitigation Measures, LeFlore County, OK and Scott County, AR.

Summary: EPA has no objections to the selection of the preferred alternative.

ERP No. DS-COE-E67003-FL Rating EC2, PCS Phosphate—White Springs Mine Continuation Mining Operations, Proposal to Discharge Dredged/Fill Material into 1,858 Acres of Jurisdictional Wetlands, Applications of “Life of Mine” Permit, Hamilton County, FL.

Summary: EPA expressed environmental concerns that fine sands and clays dislodged during the mining process or introduced from clay setting areas and restoration activities might clog interstitial spaces of the soils and reduce conductivity of the underlying aquifers that feed tributary creeks. EPA requested timely consultations with FWS on protected species, a long term ground water monitoring program to document ground water conductivity, cumulative impacts on Suwanneee River flows, and more discussion of phosphate mining on subsurface aquifer storage.

Final EISs

ERP No. F-AFS-L65383-ID Hidden Cedar Project, Road Construction and Watershed Restoration, Idaho Panhandle National Forest, St. Joe Ranger District, Benewah, Shoshone, Clearwater and Latah Counties, ID.

Summary: The final EIS adequately discloses the impacts and satisfactorily responds to most of EPA's comments on the draft EIS. Therefore, EPA has no objection to the action as proposed.

ERP No. F-NOA-F39039-IN Indiana Lake Michigan Coastal Program Document, Federal Approval and Implementation, Coastal Zone Management, Lake, Porter and LaPorte Counties, IN.

Summary: EPA had no objection to the action as proposed.

ERP No. F-NOA-K91009-00 Coral Reef Ecosystems of the Western Pacific Region, Fishery Management Plan including Amendments to Four Existing (FMPs), Amendment 7 Bottomfish and Seamount Groundfish Fisheries, Amendment 11 Crustaceans Fisheries, Amendment 5 Precious Corals Fisheries and Amendment 10 Pelagics Fisheries, HI, GU and AS.

Summary: While the FEIS provided substantially more information regarding the potential conflicts with the Ecosystem Reserve and Refuges, EPA has environmental concern that the document still lacks information on the current management of coral reef ecosystem resources in the western Pacific region, and how conflicts among federal agencies regarding these resources will be resolved. EPA requested that a supplemental information document which clarifies these issues be prepared.

ERP No. F-RUS-L08056-AK Southern Intertie Project, Construction and Operation of a new 138kV Transmission Line between the Kenai Peninsula and Anchorage, Right-of-Way Grant, Special-Use-Permit and U.S. Army COE Section 10 and 404 Permit Issuance, Kenai Peninsula to Anchorage, AK.

Summary: While EPA has no objections to the action as proposed. EPA did recommended site-specific surveys of bird movements prior to final design and construction of the project to ensure appropriate mitigation measures (if needed) are identified.

Dated: August 27, 2002.
Joseph C. Montgomery,
Director, NEPA Compliance Division, Office of Federal Activities.

[FR Doc. 02-22238 Filed 8-29-02; 8:45 am]

BILLING CODE 6560-50-P